DEPARTMENT OF THE INTERIOR

Bureau of Indian Affairs

[167A2100DD/AAKC001030/A0A501010.99990 253G]

Proclaiming Certain Lands as Reservation for the Port Gamble S'Klallam Tribe of Washington

AGENCY: Bureau of Indian Affairs, Interior.

ACTION: Notice.

SUMMARY: This notice informs the public that the Acting Assistant Secretary—Indian Affairs proclaimed approximately 410.50 acres, more or less, an addition to the Reservation of the Port Gamble S'Klallam Tribe of Washington on June 22, 2016.

FOR FURTHER INFORMATION CONTACT: Ms. Sharlene M. Round Face, Bureau of Indian Affairs, Division of Real Estate Services, 1849 C Street NW., MS-4642-MIB, Washington, DC 20240; telephone: (202) 208-3615.

SUPPLEMENTARY INFORMATION: This notice is published in the exercise of authority delegated by the Secretary of the Interior to the Assistant Secretary—Indian Affairs by part 209 of the Departmental Manual.

A proclamation was issued according to the Act of June 18, 1934, (48 Stat. 984; 25 U.S.C. 467) for the land described below. The land was proclaimed to be part of the Port Gamble S'Klallam Indian Reservation of the Port Gamble S'Klallam Tribe in Kitsap County, Washington.

Port Gamble S'Klallam Indian Reservation

DNR Parcel

Legal Description Containing 390.26 Acres, More or Less

PARCEL A (Hansville Property North)—The North half of the Northeast quarter and North half of the Southwest quarter of the Northeast quarter, Section 16, Township 27 North, Range 2 East, W.M., Kitsap County, Washington, according to U.S. Government subdivision procedures, shown as Parcel A (North) on that survey recorded October 12, 2004 in Book 62 of Surveys at Pages 63 and 64, under Auditor's File Number 200410120005.

PARCEL B (Hansville Property South)—The South half of the Southwest quarter of the Northeast quarter, the South half of the Northeast quarter of the Southwest quarter; the Northwest quarter of the Southeast quarter; the Southeast quarter of the Southeast quarter; and the Northeast quarter of the Southeast quarter; except the east 495 feet of said Northeast quarter of the Southeast quarter of Section 16, Township 27 North, Range 2 East, W.M., Kitsap County, Washington, according to U.S. Government subdivision procedures, shown as Parcel B (South) on that survey recorded October 12, 2004, in Book 62 of Surveys at Pages 63 and 64, under Auditor's File Number 200410120005; Also excepting therefrom the West 26 feet of the East 521 feet of said Northeast quarter of the Southeast quarter of said Section 16.

PARCEL C (Hansville Property West)—East half of the Northwest quarter; the Southwest quarter of the Northwest quarter; the North half of the Northeast quarter of the Southwest quarter Section 16, Township 27 North, Range 2 East, W.M., Kitsap County, Washington; according to U.S. Government subdivision procedures, shown as Parcel C (West) on that survey recorded October 12, 2004, in Book 62 of Surveys at Pages 63 and 64, under Auditor's File No. 200410120005.

Pope Parcel

Legal Description Containing 20.24 Acres, More or Less

Lot(s) 1, Record of Survey, recorded in Volume 78, page(s) 23 and 24, of surveys, under Auditor's File No. 201308190235, being a portion of the Southeast Quarter, Section 9, Township 27 North, Range 2 East, W.M. in Kitsap County, Washington.

The above described lands contain a total of 410.50 acres, more or less, which are subject to all valid rights, reservations, rights-of-way, and easements of record.

This proclamation does not affect title to the lands described above, nor does it affect any valid existing easements for public roads, highway, public utilities, railroads, and pipelines or any other valid easements or rights-of-way or reservations of record.

Dated: June 22, 2016.
Lawrence S. Roberts,
Acting Assistant Secretary—Indian Affairs.

[FR Doc. 2016-15430 Filed 6-29-16; 8:45 am]

BILLING CODE 4337-15-P